DEPARTMENT OF AGRICULTURE

Submission for OMB Review; Comment Request

August 8, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Pork-Filled Pasta.

OMB Control Number: 0579-0214.

Summary of Collection: The Animal Health Protection Act (AHPA) of 2002 is the primary Federal law governing the protection of animal health. The law gives the Secretary of Agriculture broad authority to detect, control, and eradicate pests or diseases of livestock or poultry. The Animal and Plant Health Inspection Service (APHIS) is responsible for protecting the health of our Nation's livestock and poultry populations by preventing the introduction and interstate spread of serious diseases and pests of livestock and for eradicating such diseases from the United States when feasible.

Need and use of the Information: A certificate must be completed and signed by the issuing official, and contains such information as the origin of the meat used in the product, the name and location of the facility that processed the product, and the product's intended destination. Without the information, it would significantly cripple APHIS' ability to ensure that pork-filled pasta from certain regions pose a minimal risk of introducing swine vesicular disease into the United States.

Description of Respondents: Business or other for-profit; Federal Government.

Number of Respondents: 2.

Frequency of Responses: Recordkeeping; Reporting: On occasion.

Total Burden Hours: 3.

Animal and Plant Health Inspection Service

Title: Standards for Privately Owned Quarantine Facilities for Ruminants.

OMB Control Number: 0579-0232.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material to prevent the spread of any livestock or poultry pest or disease. The Animal and Plant Health Inspection Service (APHIS) provides standards for the approval, operation, and oversight of privately owned quarantine facilities for imported ruminants prior to their release into the United States.

Need and use of the Information: APHIS uses the following information activities with its efforts to maintain a system whereby private individuals can operate (with APHIS oversight) their own facilities for the quarantine of imported ruminants: (1) Application Letter; (2) Compliance Agreement; (3) Daily Log; and (4) Request for Variance. Without the information, APHIS would be forced to discontinue its program of allowing the operation of privately owned quarantine facilities for ruminants, a development that would hamper U.S. animal import activities.

Description of Respondents: Business or other for-profit.

Number of Respondents: 3.

Frequency of Responses: Recordkeeping; Reporting: On occasion.

Total Burden Hours: 76.

Animal and Plant Health Inspection Service

Title: Importation of Swine and Swine Products from the European Union.

OMB Control Number: 0579-0265.

Summary of Collection: The Animal Health Protection Act (AHPA) of 2002 is the primary Federal law governing the protection of animal health. The law gives the Secretary of Agriculture broad authority to detect, control, or eradicate pests or diseases of livestock or poultry. In connection with the disease prevention mission, the Animal and Plant Health Inspection Service (APHIS) regulates the importation of animals and animal products into the United States to guard against the introduction of animal diseases not currently present or prevalent in the United States.

Need and Use of the Information: To help APHIS ensure that classical Swine fever (CSF) is not introduced into the United States, the regulations allow, under specified conditions, the importation of pork, pork products, and swine from the APHIS-defined European Union (EU) CSF region. These requirements necessitate the use of several information collection activities, including certification statements from the importation of pork, pork products, and swine. Failing to collect this information would increase the chances of CSF being introduced into the United States.

Description of Respondents: Federal Government.

Number of Respondents: 15.

Frequency of Responses: Reporting: On occasion.

Total Burden Hours: 6,846.

Ruth Brown,
Departmental Information Collection Clearance Officer.

[FR Doc. 2012-19785 Filed 8-10-12; 8:45 am]

BILLING CODE 3410-34-P